NATIONAL CREDIT UNION ADMINISTRATION

Sunshine Act Meeting

TIME AND DATE: 10:00 a.m., Thursday, July 20, 2017.

PLACE: Board Room, 7th Floor, Room 7047, 1775 Duke Street (All visitors must use Diagonal Road Entrance), Alexandria, VA 22314-3428.

STATUS: Open.

MATTERS TO BE CONSIDERED:

1. Share Insurance Fund Quarterly Report.

2. NCUA's Rules and Regulations, Emergency Mergers.

3. Board Briefing, 2017 Mid-Session Budget.

4. Request for Comments, Closing the Stabilization Fund and Setting the Share Insurance Fund Normal Operating Level.

5. NCUA's Rules and Regulations, Share Insurance Fund Equity Distributions.

FOR FURTHER INFORMATION CONTACT: Gerard Poliquin, Secretary of the Board, Telephone: 703-518-6304.

Gerard Poliquin,
Secretary of the Board.

[FR Doc. 2017-14947 Filed 7-12-17; 4:15 pm]

BILLING CODE 7535-01-P